DEPARTMENT OF HEALTH AND HUMAN SERVICES

National Committee on Vital and Health Statistics; Meeting

Pursuant to the Federal Advisory Committee Act, the Department of Health and Human Services announces the following advisory committee meeting.

Name: National Committee on Vital and Health Statistics (NCVHS) Executive Subcommittee.

Time and Date: 11:00 a.m. 1:00 p.m. EDT, Friday, April 28, 2000.

Place: Conference Call, Participations Dial-in Number: 1-888-422-7124, Participants Code: 284339. Host: John Lumpkin, M.D.

Status: Open.

Purpose: During this conference call, the Executive Subcommittee will discuss work plans for future activities relating to the Committee's reports on the National Health Information Infrastructure and the 21st Century Vision on Health Statistics, as well as other activities as necessary.

Notice: This conference call is open to the public using the participants' dial-in telephone number and participants' code, but access may be limited by the number of available telephone lines.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: //www.ncvhs.hhs.gov/, where further information will be posted when available.

Dated: April 19, 2000.
James Scanlon,
Director, Division of Data Policy, Office of the Assistant Secretary for Planning and Evaluation.

[FR Doc. 00-10277 Filed 4-24-00; 8:45 am]

BILLING CODE 4151-05-M